DEPARTMENT OF HEALTH AND HUMAN SERVICES

National Institutes of Health

Center for Scientific Review; Amended Notice of Meeting

Notice is hereby given of a change in the meeting of the Hypersensitivity, Autoimmune, and Immune-mediated Diseases Study Section, October 3, 2013, 8:00 a.m. to October 4, 2013, 5:00 p.m., Crystal City Marriott, 1999 Jefferson Davis Highway, Arlington, VA 22202 which was published in the Federal Register on September 9, 2013, 78 FR 55086.

The meeting will start on November 14, 2013 and end on November 15, 2013. The time and location remain the same. The meeting is closed to the public.

Dated: October 25, 2013.
Carolyn A. Baum,
Program Analyst, Office of Federal Advisory Committee Policy.

[FR Doc. 2013-25682 Filed 10-29-13; 8:45 am]

BILLING CODE 4140-01-P